DEPARTMENT OF DEFENSE

Department of the Navy

[Docket ID USN-2008-0061]

Privacy Act of 1974; System of Records

AGENCY: U.S. Marine Corps, DoD.

ACTION: Notice to Add a System of records.

SUMMARY: The U.S. Marine Corps is proposing to add a new system of records notice to its existing inventory of records systems subject to the Privacy Act of 1974 (5 U.S.C. 552a), as amended.

DATES: This proposed action will be effective without further notice on January 2, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974 (5 U.S.C. 552a), as amended, have been published in the Federal Register and are available from the address above.

The proposed system report, as required by 5 U.S.C. 552a(r), of the Privacy Act of 1974, as amended, was submitted on November 19, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 25, 2008.
Morgan E. Frazier,
Alternate OSD Federal Register Liaison Officer, Department of Defense.

M-01080-2

SYSTEM NAME:

U.S. Marine Corps Manpower Personnel Analysis Records.

SYSTEM LOCATION:

Manpower and Reserve Affairs (M&RA), Manpower Information Systems Division (MI), 3280 Russell Rd., Quantico, VA 22134-5103.

CATEGORIES OF INDIVIDUALS COVERED BY THE SYSTEM:

All active duty and reserve Marines.

CATEGORIES OF RECORDS IN THE SYSTEM:

The system contains personnel data which includes, but is not limited to name, rank/grade, Social Security Number (SSN), current address/contact information, duty status, component code, gender, security investigation date/type, education, enlistment contract details (end of active service (EAS), end of current contract (ECC), end of obligated service (EOS), training information to include military occupational specialties (MOS), and related data).

AUTHORITY FOR MAINTENANCE OF THE SYSTEM:

10 U.S.C. 5013, Department of the Navy; 10 U.S.C. 5042, Headquarters, Marine Corps: general duties; 5 U.S.C. 301, Departmental Regulations; and E.O. 9397 (SSN).

PURPOSE(S):

To redesign and develop appropriate information management, provide simulation, analysis, and forecasting tools to capture and process manpower information, making data visible to the appropriate Marine Corps decision makers. Through a single entry point in the system, manpower analysis managers will be able to control publication of applicable data across the entire enterprise through their respective chain of command.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to the oversight of Navy/Marine Corps management.

The DoD `Blanket Routine Uses' set forth at the beginning of the Marine Corps' compilation of systems of records notices also apply to this system.

POLICIES AND PRACTICES FOR STORING, RETRIEVING, ACCESSING, RETAINING, AND DISPOSING OF RECORDS IN THE SYSTEM:

STORAGE:

Electronic Storage Media.

RETRIEVABILITY:

By individual's name and Social Security Number (SSN).

SAFEGUARDS:

Records are maintained in a secure, limited access, or monitored work area. Physical entry by unauthorized persons is restricted by the use of locks, guards, or administrative procedures. Access to personal information is restricted to those who require the records in the performance of their official duties. Access to computer records is further restricted by the use of passwords which are changed periodically.

RETENTION AND DISPOSAL:

The records retention has not been approved by National Archives and Records Administration, until then treat as permanent.

SYSTEM MANAGER(S) AND ADDRESS:

Director, Manpower Information (MI), 3280 Russell Rd., Quantico, VA 22134-5103.

NOTIFICATION PROCEDURE:

Individuals seeking to determine whether information about themselves is contained in this system should address written inquiries to Director, Manpower Information (MI), 3280 Russell Rd., Quantico, VA 22134-5103.

The request must be signed and include full name and Social Security Number (SSN), as well as your complete mailing address.

RECORD ACCESS PROCEDURES:

Individuals seeking access to information about themselves contained in this system should address written inquiries to: Director Manpower Information (MI), 3280 Russell Rd., Quantico, VA 22134-5103.

The request must be signed and include full name and Social Security Number (SSN), as well as your complete mailing address.

CONTESTING RECORD PROCEDURES:

The USMC rules for contesting contents and appealing initial agency determinations are published in Secretary of the Navy Instruction 5211.5; Marine Corps Order P5211.2; 32 CFR part 701; or may be obtained from Director, Manpower Information (MI), 3280 Russell Rd., Quantico, VA 22134-5103.

RECORD SOURCE CATEGORIES:

Operational Data Store Enterprise (ODSE); Total Force Data Warehouse (TFDW); Marine Corps Recruiting Information Support System (MCRISS); Marine Corps Training Information Management System (MCTIMS); Manpower Assignment Support System (MASS) and Total Force Structure Management System (TFSMS).

EXEMPTIONS CLAIMED FOR THE SYSTEM:

None.

[FR Doc. E8-28603 Filed 12-1-08; 8:45 am]

BILLING CODE 5001-06-P